DEPARTMENT OF DEFENSE

Department of the Air Force

Global Positioning System Directorate (GPSD) Meeting Notice

AGENCY: Global Positioning System Directorate (GPSD), Department of the Air Force, Department of Defense.

ACTION: Notice of meeting—2016 Public Interface Control Working Group and Open Forum for the NAVSTAR GPS public documents.

SUMMARY: This notice informs the public that the Global Positioning Systems (GPS) Directorate will host the 2016 Public Interface Control Working Group and Open Forum on 21 and 22 September 2016 for the following NAVSTAR GPS public documents: IS-GPS-200 (Navigation User Interfaces), IS-GPS-705 (User Segment L5 Interfaces), IS-GPS-800 (User Segment L1C Interface), ICD-GPS-240 (NAVSTAR GPS Control Segment to User Support Community Interfaces), and ICD-GPS-870 (NAVSTAR GPS Control Segment to User Support Community Interfaces). Additional logistical details can be found below.

The purpose of this meeting is to update the public on GPS public document revisions and collect issues/comments for analysis and possible integration into future GPS public document revisions. All outstanding comments on the GPS public documents will be considered along with the comments received at this year's open forum in the next revision cycle. The 2016 Interface Control Working Group and Open Forum are open to the general public. For those who would like to attend and participate, we request that you register no later than September 7, 2016. Please send the registration information to SMCGPER@us.af.mil, providing your name, organization, telephone number, email address, and country of citizenship.

Comments will be collected, catalogued, and discussed as potential inclusions to the version following the current release. If accepted, these changes will be processed through the formal directorate change process for IS-GPS-200, IS-GPS-705, IS-GPS-800, ICD-GPS-240, and ICD-GPS-870. All comments must be submitted in a Comments Resolution Matrix (CRM). These forms along with current versions of the documents and the official meeting notice are posted at: http://www.gps.gov/technical/icwg/.

Please submit comments to the SMC/GPS Requirements (SMC/GPER) mailbox at SMCGPER@us.af.mil by August 19, 2016. Special topics may also be considered for the Public Open Forum. If you wish to present a special topic, please coordinate with SMC/GPER no later than September 7, 2016. For more information, please contact Capt Robyn Anderson at 310-653-3064 or Daniel Godwin at 310-653-3640.

Table of Contents

• DATES:

• ADDRESSES:

• FOR FURTHER INFORMATION CONTACT:

DATES: Date/Time: 21-22 Sept 2016, 0830-1600 * (Pacific Standard Time P.S.T.).

Registration/check-in on 21 Sept 2016 will begin at 0800 hrs

ADDRESSES: PCT: 100 North Sepulveda Blvd., El Segundo, CA 90245, The Great Room.

Dial-In Information and Location:Phone Number: 1-310-653-2663, Meeting ID: 6272252, Passcode: 000001.

* Identification will be required at the entrance of the PCT facility (e.g., Passport, state ID or Federal ID).

PCT Facility Phone Number: 310-615-0122.

FOR FURTHER INFORMATION CONTACT: Captain Robyn Anderson, robyn.anderson.1@us.af.mil, (310) 653-3064. Daniel Godwin, daniel.godwin.5@us.af.mil, (310) 653-3640.

Bao-Anh Trinh,
Air Force Federal Register Liaison Officer.

[FR Doc. 2016-18595 Filed 8-4-16; 8:45 am]

BILLING CODE 5001-10-P